Executive Order 13729 of May 18, 2016

A Comprehensive Approach to Atrocity Prevention and Response

By the authority vested in me as President by the Constitution and the laws of the United States of America, it is hereby ordered as follows:

Section 1. Policy. As articulated in Presidential Study Directive-10 (PSD-10), preventing mass atrocities and genocide is a core national security interest and a core moral responsibility of the United States. Noting that governmental engagement on mass atrocities and genocide too often arrives too late, when opportunities for prevention or low-cost, low-risk action have been missed, PSD-10 directed the establishment of an interagency Atrocities Prevention Board (Board), with the primary purpose of coordinating a whole-of-government approach to prevent mass atrocities and genocide. PSD-10 also directed an interagency study to develop and recommend the membership, mandate, structure, operational protocols, authorities, and support necessary for the Board to coordinate and develop atrocity prevention and response policy. This order continues in place the Board established in 2012 as I directed in PSD-10, sets out the support to be afforded by executive departments, agencies, and offices, and updates and memorializes the terms on which the Board will continue to operate in the service of its important mission.

Sec. 2. Definition. For purposes of this order, the term “mass atrocities” or “atrocities,” neither of which is defined under international law, refers to large scale and deliberate attacks on civilians, and includes acts falling within the definition “genocide” as defined in international law and under U.S. domestic statute.

Sec. 3. Responsibilities. The Board shall seek to ensure that mass atrocities and the risk thereof are effectively considered and appropriately addressed by the U.S. Government, and shall coordinate the development and execution of policies and tools to enhance our capacity to prevent and respond to mass atrocities.

(a) In order to ensure that emerging mass atrocity risks and mass atrocity situations are considered and addressed, the Board shall monitor developments around the world that heighten the risk of mass atrocities, and analyze and closely review specific mass atrocity threats or situations of heightened concern.

(b) The Board shall also identify any gaps related to the prevention of and response to mass atrocities in the current policies and ongoing interagency processes concerning particular regions or countries and shall make recommendations to strengthen policies, programs, resources, and tools related to mass atrocity prevention and response to relevant executive departments and agencies (agencies), including through the Board's function as an interagency policy committee, as detailed in section 4 of this order. In these efforts, the Board shall focus in particular on ways for the U.S. Government to develop, strengthen, and enhance its capabilities to:

(i) monitor, receive early warning of, and coordinate responses to potential mass atrocities;

(ii) deter and isolate perpetrators of mass atrocities through all available and appropriate authorities;

(iii) promote accountability of and deny impunity for perpetrators of mass atrocities, including by denying safe haven for perpetrators found in the United States;

(iv) engage allies and partners, including the United Nations and other multilateral and regional institutions, to build capacity and mobilize action for preventing and responding to mass atrocities;

(v) deploy civilian personnel with expertise in conflict prevention, civilian protection, mediation, and other relevant skills, including on a rapid response basis, to assist in mass atrocity prevention and response efforts;

(vi) increase capacity for our diplomats, armed services, development professionals, and other actors to engage in mass atrocity prevention and response activities;

(vii) develop and implement tailored foreign assistance programs as well as doctrine for our armed services to address and mitigate the risks of mass atrocities;

(viii) ensure intelligence collection, analysis, and sharing of information, as appropriate, relating to mass atrocity threats and situations; and

(ix) address any other issue regarding mass atrocity prevention and response that the Board determines is appropriate.

Sec. 4. Structure and Protocols of the Atrocities Prevention Board. The Board shall continue to operate and will have the following structure and protocols:

(a) The Board shall function as an interagency policy committee, or body of equivalent standing, chaired by a member of the National Security Council staff at the Senior Director level or higher who shall be designated by the President (Chair).

(b) The Chair shall convene the Board on a monthly basis to perform the responsibilities set forth in section 3 of this order. The Board shall also meet as needed on an ad hoc and time-sensitive basis to consider and address emerging mass atrocity threats or situations.

(c) The Deputies Committee of the National Security Council (Deputies) shall meet at least twice per year, and the Principals Committee of the National Security Council (Principals) shall meet at least once per year, to review and direct the work of the Board.

(d) The Board shall be composed of individuals at the Assistant Secretary-level or higher who shall be designated by the leadership of their respective departments or agencies. Within 60 days of a vacancy on the Board, the relevant department or agency or office head shall designate a replacement representative and notify the National Security Advisor. In addition to the Chair, the Board shall consist of the designated representatives from the following:

(i) the Office of the Vice President;

(ii) the Department of State;

(iii) the Department of the Treasury;

(iv) the Department of Defense;

(v) the Department of Justice;

(vi) the Department of Homeland Security;

(vii) the U.S. Mission to the United Nations;

(viii) the Office of the Director of National Intelligence;

(ix) the Central Intelligence Agency;

(x) the U.S. Agency for International Development;

(xi) the Joint Chiefs of Staff; and

(xii) such other agencies or offices as may request to participate in coordination with the Chair.

(e) The Chair shall report, through the National Security Advisor, to the President by April 30 each year on the work of the U.S. Government in mass atrocity prevention and response, including the work of the Board.

(f) The Chair shall prepare written updates for the public, on an annual basis, on the work of the U.S. Government in mass atrocity prevention and response, including the work of the Board.

(g) Consistent with the objectives set out in this order and in accordance with applicable law, the Board shall conduct outreach, including regular consultations, with representatives of nongovernmental organizations with expertise in mass atrocity prevention and response and other appropriate parties. Such outreach shall be for the purpose of assisting the Board with its work on considering and addressing emerging mass atrocity threats or situations and on developing new or improved policies and tools, as well as for the purpose of providing transparency on the work of the Board.

(h) In order to conduct the work set forth in this order effectively, the Board may:

(i) request information or analysis from the Intelligence Community (IC), Chiefs of Mission, agencies, and offices;

(ii) develop policy recommendations and programmatic recommendations for agencies, offices, and existing interagency processes;

(iii) in conjunction with existing interagency processes, formulate policy recommendations and programmatic recommendations;

(iv) coordinate with the Office of Management and Budget (OMB) to develop guidance on mass atrocity prevention resource priorities for agencies and offices; and

(v) bring urgent or significant matters to the attention of the Deputies and, as appropriate, request that the Deputies convene to address a situation of concern, consistent with Presidential Policy Directive-1 or its successor.

Sec. 5. Enhancing Capabilities and Tools. Agencies shall take the following actions in support of the United States Government's policy of working to prevent and respond to mass atrocities:

(a) Agencies, in coordination with the Board, shall ensure that mass atrocity prevention and response staffing, training, funding, and activities are addressed in their strategic planning and budget processes, including Department Quadrennial Reviews, Mission Resource Requests, State Department Integrated Country Strategies, U.S. Agency for International Development (USAID) Joint Strategic Plans, State Department Bureau Strategic Resource Plans, and related strategic planning and budget processes and documents. The Chair shall make recommendations to the National Security Advisor on the inclusion of material in the President's National Security Strategy that addresses mass atrocity prevention and response.

(b) The Department of State and USAID shall work with OMB to support the maintenance of civilian assistance accounts and authorities that enable swift civilian responses to mass atrocity threats and situations.

(c) The Department of State and USAID shall offer mass atrocity prevention and response training courses to all officers deployed or planning deployment to countries deemed by the IC to be at high or substantial risk for mass atrocities.

(d) The Department of State and USAID shall continue to build and use civilian capacity (i.e., the ability to deploy personnel with expertise in conflict prevention, civilian protection, mediation, and other relevant skills) effectively for mass atrocity prevention and response, and shall develop mechanisms for enhanced partnerships with non-U.S. Government actors that could provide surge capacity, such as the United Nations and other multilateral and regional organizations, foreign governments, and nongovernmental organizations.

(e) The IC shall continue to monitor developments worldwide and, as changing conditions warrant, prepare an IC-coordinated assessment updating IC judgments in its National Intelligence Estimate on the global risk of mass atrocities and genocide at regular intervals to inform the work of the Board.

(f) Recognizing mass atrocity prevention as a core national security interest of the United States, the IC shall allocate resources so as to permit a collection surge for countries where the Board determines, and the Deputies concur, that there are ongoing or acute risks of mass atrocities that merit increased attention, in accordance with the National Intelligence Priority Framework and available resources.

(g) The IC shall work with partner governments to encourage the collection and analysis of mass atrocity-related intelligence and the sharing of this intelligence with the U.S. Government and its partners in mass atrocity prevention and response.

(h) The Department of Homeland Security (DHS) and the Department of Justice, in coordination with the Department of State, shall continue to develop proposals for legislative, regulatory, or administrative amendments or changes that would permit the more effective use and enforcement of immigration and other laws to deny impunity to perpetrators of mass atrocities and that would enhance our ability to prosecute such perpetrators subject to the jurisdiction of the United States and remove those who are not citizens.

(i) The Department of Defense (DOD) shall continue to develop joint doctrine and training that support mass atrocity prevention and response operations and shall address mass atrocity prevention and response as part of its general planning guidance to combatant commands and services.

(j) The Department of State, the Department of the Treasury, DHS, the U.S. Mission to the United Nations (USUN), and other agencies as appropriate, shall coordinate with bilateral and multilateral partners on the deployment of mass atrocity prevention and response tools, including isolating and deterring perpetrators of mass atrocities through all available authorities (including administrative actions, visa authorities, and capacity-building support), as appropriate.

(k) The Department of State, in coordination with USUN, DOD, and other agencies as appropriate, shall work bilaterally, multilaterally, and with regionally based organizations to enhance effectiveness in the fields of early warning, analysis, prevention, response, and accountability, and shall work with international partners to build or encourage building the capacity of our allies and partners to prevent and respond to mass atrocities.

Sec. 6. General Provisions. (a) Members of the Board shall serve without any additional compensation for their work on the Board.

(b) Nothing in this order shall be construed to impair or otherwise affect:

(i) the authority granted by law to an executive department, agency, or the head thereof, or the status of that department or agency within the Federal Government; or

(ii) the functions of the Director of OMB relating to budgetary, administrative, or legislative proposals.

(c) This order shall be implemented consistent with applicable law, and subject to the availability of appropriations.

(d) This order is not intended to, and does not, create any right or benefit, substantive or procedural, enforceable at law or in equity by any party against the United States, its departments, agencies, or entities, its officers, employees, or agents, or any other person.

THE WHITE HOUSE,

May 18, 2016.

[FR Doc. 2016-12307

Filed 5-20-16; 11:15 am]

Billing code 3295-F6-P